DEPARTMENT OF TRANSPORTATION

Federal Railroad Administration

[Docket Number FRA-2005-21014]

Petition for Waiver of Compliance

Under part 211 of title 49 Code of Federal Regulations (CFR), this document provides the public notice that on October 1, 2020, Maine Narrow Gauge Railroad Company and Museum (MNGR) petitioned the Federal Railroad Administration (FRA) for a waiver of compliance from certain provisions of the Federal railroad safety regulations contained at 49 CFR part 230, Steam Locomotive Inspection and Maintenance Standards. FRA assigned the petition Docket Number FRA-2005-21014.

Specifically, MNGR, a 2-foot gage tourist and museum railroad, seeks a renewal of a waiver of compliance from the requirements of 49 CFR 230.51, Water glasses and gage cocks, number and location. MNGR operates two steam locomotives, No. 3 and No. 4, built in 1913 and 1918, respectively, by Vulcan Iron Works. The locomotives pull tourist trains on approximately two miles of track located within the waterfront district of Portland, Maine. MNGR specifically requests that the minimum reading for the water glasses on these two locomotives be retained at inches above the highest part of the crown sheet as originally designed, constructed, and operated since the early 1900s. Modifying the locomotives to comply with the regulatory requirement of a minimum water reading of 3 inches would result in the top or full reading of the water glasses being of equal height with the top of the boiler. Thus, when the water glass indicates full, there is very little remaining volume for steam to accumulate, and water may carry over into the dry pipe, creating an unsafe condition. In addition, the boilers on these two locomotives are 37-1/8 inches in diameter, which is significantly smaller than that found on standard gage locomotives. MNGR states that due to the difference in boiler diameters, an equivalent level of safety exists.

A copy of the petition, as well as any written communications concerning the petition, is available for review online at www.regulations.gov.

Interested parties are invited to participate in these proceedings by submitting written views, data, or comments. FRA does not anticipate scheduling a public hearing in connection with these proceedings since the facts do not appear to warrant a hearing. If any interested parties desire an opportunity for oral comment and a public hearing, they should notify FRA, in writing, before the end of the comment period and specify the basis for their request.

All communications concerning these proceedings should identify the appropriate docket number and may be submitted by any of the following methods:

• Website: http://www.regulations.gov. Follow the online instructions for submitting comments.

• Fax: 202-493-2251.

• Mail: Docket Operations Facility, U.S. Department of Transportation (DOT), 1200 New Jersey Ave. SE, W12-140, Washington, DC 20590.

• Hand Delivery: 1200 New Jersey Ave. SE, Room W12-140, Washington, DC 20590, between 9 a.m. and 5 p.m., Monday through Friday, except Federal Holidays.

Communications received by December 21, 2020 will be considered by FRA before final action is taken. Comments received after that date will be considered if practicable. Anyone can search the electronic form of any written communications and comments received into any of our dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacyNotice for the privacy notice of regulations.gov.

Issued in Washington, DC.
John Karl Alexy,
Associate Administrator for Railroad Safety, Chief Safety Officer.

[FR Doc. 2020-24559 Filed 11-4-20; 8:45 am]

BILLING CODE 4910-06-P